DEPARTMENT OF DEFENSE

Office of the Secretary

[Docket ID: DoD-2208-OS-0099]

Privacy Act of 1974; Systems of Records

AGENCY: Defense Logistics Agency, DoD.

ACTION: Notice to alter a system of records.

SUMMARY: The Defense Logistics Agency proposes to alter a system of records notice in its existing inventory of records systems subject to the Privacy Act of 1974, (5 U.S.C. 552a), as amended.

DATES: This proposed action will be effective without further notice on September 29, 2008 unless comments are received which result in a contrary determination.

ADDRESSES: Send comments to the Privacy Act Officer, Headquarters, Defense Logistics Agency, ATTN: DP, 8725 John J. Kingman Road, Stop 2533, Fort Belvoir, VA 22060-6221.

FOR FURTHER INFORMATION CONTACT: Ms. Jody Sinkler at (703) 767-5045.

SUPPLEMENTARY INFORMATION: The Defense Logistics Agency systems of records notices subject to the Privacy Act of 1974, (5 U.S.C. 552a), as amended, have been published in the Federal Register and are available from the address above.

The proposed system reports, as required by 5 U.S.C. 552a(r), of the Privacy Act of 1974, as amended, were submitted on August 22, 2008, to the House Committee on Oversight and Government Reform, the Senate Committee on Homeland Security and Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: August 22, 2008.
Patricia Toppings,
OSD Federal Register Liaison Officer, Department of Defense.

S400.20

System name:

Day Care Facility Registrant and Applicant Records (April 26, 2002, 67 FR 8012).

Changes:

* * * * *

System name:

Delete entry and replace with “Day Care Facility Registrant, Applicant and Enrollee Records.”

System location:

Delete entry and replace with “Headquarters, Defense Logistics Agency, 8725 John J. Kingman Road, Fort Belvoir, VA 22060-6221 and participating DLA Field Activities. Mailing addresses for the DLA Field Activities may be obtained from the System manager below.”

* * * * *

Categories of records in the system:

Delete entry and replace with “Waiting List Applicant” records include the names of the sponsor and spouse (when applicable), Social Security Numbers; home and electronic mail addresses; work, home, cell and pager telephone numbers; place of employment; rank or civilian pay grade; child's name and birth date documentation of any special needs or health concerns regarding the child, to include documentation of food restrictions; physical abilities and limitations; physical, emotional, or other special care requirements (including restrictions or special precautions concerning diet); special services Individual Development Plans (IDP) when special needs have already been diagnosed.

Enrollees records include all items listed above under “Waiting List Applicant” plus names and phone numbers of emergency points of contact; medical, dental and insurance provider data; medical examination reports, health assessments and screening results; immunization, allergy and medication information; documentation of Special Needs Resource Team (SNRT) meetings, recommendations and follow-up; documentation of behavioral issues; special services Individual Development Plans (IDP) (when applicable); child portfolios to include observations, anecdotal records, and developmental milestone checklists; parent/teacher conference data; parent complaints; transportation requirements and schedules; parental disabilities, impairments, or special needs; authorization, consent, and agreement forms; medical power of attorney; serious event/incident report forms; symptom records; escort and emergency designees' name and data to include physical and electronic addresses and work, home, cell, and pager telephone numbers; documentation of returned checks; status of hardship requests; family care plans to include documentation of guardianship and medical power of attorney in the absence of parent(s); and suspected/reported child abuse or neglect forms. The records may include child and family profiles which gather information on family background, cultural, and ethnic data such as religion, native language, and family composition for cultural and social enrichment activities. For fee assessment purposes, the application records also include family income data; documentation of disability if unemployed; and, for security purposes, court records with information on custody and visitation arrangements when applicable. Note: Any and all information relating to an individual's religious preference or religious activity is collected and maintained only if the individual has made an informed decision to voluntarily provide the information.

Employee records include their name; Social Security Number and birth date; home address; home and cell telephone numbers; electronic mail address; names, telephone numbers and home addresses of emergency points of contact; health assessment, psychological evaluations, immunization records, and documentation of ongoing medication; verification of background checks and suitability determination; training records, educational background, and other related employment experiences; employment references; job performance standards, copies of appraisals, awards, promotions and grievance actions; copies of personnel actions; counseling statements as appropriate.

Volunteer records include their name, and birth date; home addresses; home, work and cell telephone numbers; electronic mail address; place of employment; names, telephone numbers and home addresses of emergency points of contact; health assessment, psychological evaluations, immunization records, and documentation of ongoing medication; verification of background checks and suitability determination; and training records.

* * * * *

Purpose(s):

Delete entry and replace with “With the exception of family income data, the records are available to the Child and Youth Program Coordinator, the CDP Director and Assistant Director, the CDP Training and Curriculum Specialist, and applicable administrative and care giving staff for the purpose of providing safe, developmentally appropriate day care services and to ensure proper, effective response in the event of an emergency. These records may also be made available to subject matter experts during inspections.”

Individualized data on total family income is provided to employing Defense components for fiscal planning purposes, for subsidy computation, and to reimburse DLA for day care services rendered under a support agreement. Verification of family income data is also used for fee assessment purposes and is made available to DLA representatives during inspections.

Serious Event Forms, Incident Report Forms, and monthly injury logs are provided to the Child and Youth Programs Coordinator, the CDP Director, and the installation's safety and health office for the purpose of tracking all accidents/incidents that occur within the CDP center or during sponsored activities off-site. These reports are also made available to safety and health professionals during inspections.

Records pertaining to physical abilities and limitations; physical, emotional or other special care requirements to include restrictions or special precautions concerning diet; existing IDPs; and documentation of behavioral issues or other special needs will be provided to members of the SNRT for the purpose of determining staff training needs, appropriate classroom placement, necessity of contract modification, and appropriate follow-up, to include collaboration with community resources as needed. Based upon the severity of the special need, the installation's paramedic squad will be notified of the child's enrollment at the CDC and the specific condition that may require attention. Records will also be available to subject matter experts during inspections.

Routine uses of records maintained in the system, including categories of users and the purposes of such uses:

Delete entry and replace with “In addition to those disclosures generally permitted under 5 U.S.C. 552a(b) of the Privacy Act, these records or information contained therein may specifically be disclosed outside the DOD as a routine use pursuant to 5 U.S.C. 552a(b)(3) as follows:

To physicians, dentists, medical technicians, hospitals, or health care providers in the course of obtaining emergency medical attention.

To Federal, state, and local officials involved with childcare or health services for the purpose of reporting suspected or actual child abuse.

To Federal, state, and local agencies and private sector entities that employ individuals who are registered to use the day care center for the purpose of verifying income. Note: Only name and data pertaining to reported total family income is disclosed to employing agencies and entities.

To State Public Health Authorities and/or the Center for Disease Control for the purpose of reporting communicable diseases. Information released does not contain any personally identifiable information.

The DOD “Blanket Routine Uses” apply to this system of records

Add a new element to the notice: “Disclosures to consumer reporting agencies:

Disclosures pursuant to 5 U.S.C. 552a(b)(12) may be made from this system to “consumer reporting agencies” as defined in the Fair Credit Reporting Act (14 U.S.C. 1681a(f)) or the Federal Claims Collection Act of 1966 (31 U.S.C. 3701(a)(3)). The purpose of this disclosure is to aid in the collection of outstanding debts owed to the Federal government; typically to provide an incentive for debtors to repay delinquent Federal government debts by making these debts part of their credit records.

“The disclosure is limited to information necessary to establish the identity of the individual, including name, address, and taxpayer identification number (Social Security Number); the amount, status, and history of the claim; and the agency or program under which the claim arose for the sole purpose of allowing the consumer reporting agency to prepare a commercial credit report.”

* * * * *

Safeguards:

Delete entry and replace with “Records are maintained in areas accessible only to personnel who must use them in the performance of their official duties. Paper records are maintained in locked file cabinets, drawers, or offices in a locked building with controlled, monitored access. Personnel who use the records to perform their duties must complete Privacy Act/Personally Identifiable Information (PII) training prior to being granted access to records. Smart card technology is required to access records maintained on computer systems.”

Retention and disposal:

Enrollee records (involving no serious accident or injury requiring emergency medical records) are sent to the Child and Youth Program Coordinator upon termination from the program and are destroyed 1 year later.

Enrollee records (involving a serious accident or injury requiring emergency medical records) are sent to the Child Development Services Coordinator upon termination from the program and are destroyed 3 years after the incident or 1 year after the enrollee withdraws from the program, whichever is later.

Employee and Volunteer Records are maintained at the Child Development Center and are destroyed 3 years after termination of employment or volunteer services.

System manager(s) and address:

Delete entry and replace with “Director, Child and Youth Programs, Morale, Welfare and Recreation, Headquarters Defense Logistics Agency, 8725 John J. Kingman Road, ATTN: DES-Q, Fort Belvoir, VA 22060-6221.”

* * * * *

Record source categories:

Delete entry and replace with “Information is provided by the registrant, the registrant's sponsor, the sponsor's employer, the registrant's physician or health care provider, and CDP employees.”

* * * * *

S400.20

System name:

Day Care Facility Registrant, Applicant and Enrollee Records.

System location:

Headquarters, Defense Logistics Agency, 8725 John J. Kingman Road, Fort Belvoir, VA 22060-6221 and the participating DLA Field Activities. Mailing addresses may be obtained from the System manager below.”

Categories of individuals covered by the system:

Individuals and their sponsors who are enrolled in, or have applied for admission to, DLA-managed day care facilities.

Categories of records in the system:

Waiting List Applicant records include the names of the sponsor and spouse (when applicable), Social Security Numbers; home and electronic mail addresses; work, home, cell and pager telephone numbers; place of employment; rank or civilian pay grade; child's name and birth date documentation of any special needs or health concerns regarding the child, to include documentation of food restrictions; physical abilities and limitations; physical, emotional, or other special care requirements (including restrictions or special precautions concerning diet); special services Individual Development Plans (IDP) when special needs have already been diagnosed.

Enrollees records include all items listed above under “Waiting List Applicant” plus names and phone numbers of emergency points of contact; medical, dental and insurance provider data; medical examination reports, health assessments and screening results; immunization, allergy and medication information; documentation of Special Needs Resource Team (SNRT) meetings, recommendations and follow-up; documentation of behavioral issues; special services Individual Development Plans (IDP) (when applicable); child portfolios to include observations, anecdotal records, and developmental milestone checklists; parent/teacher conference data; parent complaints; transportation requirements and schedules; parental disabilities, impairments, or special needs; authorization, consent, and agreement forms; medical power of attorney; serious event/incident report forms; symptom records; escort and emergency designees' name and data to include physical and electronic addresses and work, home, cell, and pager telephone numbers; documentation of returned checks; status of hardship requests; family care plans to include documentation of guardianship and medical power of attorney in the absence of parent(s); and suspected/reported child abuse or neglect forms. The records may include child and family profiles which gather information on family background, cultural, and ethnic data such as religion, native language, and family composition for cultural and social enrichment activities. For fee assessment purposes, the application records also include family income data; documentation of disability if unemployed; and, for security purposes, court records with information on custody and visitation arrangements when applicable. Note: Any and all information relating to an individual's religious preference or religious activity is collected and maintained only if the individual has made an informed decision to voluntarily provide the information.

Employee records include their name; Social Security Number (SSN) and birth date; home address; home and cell telephone numbers; electronic mail address; names, telephone numbers and home addresses of emergency points of contact; health assessment, psychological evaluations, immunization records, and documentation of ongoing medication; verification of background checks and suitability determination; training records, educational background, and other related employment experiences; employment references; job performance standards, copies of appraisals, awards, promotions and grievance actions; copies of personnel actions; counseling statements as appropriate.

Volunteer records include their name; and birth date; home addresses; home, work and cell telephone numbers; electronic mail address; place of employment; names, telephone numbers and home addresses of emergency points of contact; health assessment, psychological evaluations, immunization records, and documentation of ongoing medication; verification of background checks and suitability determination; and training records.

Authority for maintenance of the system:

5 U.S.C. 301, Departmental Regulations; 10 U.S.C. 133, Under Secretary of Defense for Acquisition, Technology, and Logistics; 10 U.S.C. 2809 and 2812, Military construction of child care facilities; 42 U.S.C. Chap. 127, Coordinated services for children, youth, and families; 40 U.S.C. 490b, Child care services for Federal employees; 42 U.S.C. Chap 67, Child abuse programs; Pub. L. 101-189, Title XV, Military Child Care Act of 1989; DOD Instruction 6060.2, Child Development Programs; and E.O. 9397 (SSN).

Purpose(s):

With the exception of family income data, the records are available to the Child and Youth Program Coordinator, the CDP Director and Assistant Director, the CDP Training and Curriculum Specialist, and applicable administrative and care giving staff for the purpose of providing safe, developmentally appropriate day care services and to ensure proper, effective response in the event of an emergency. These records may also be made available to subject matter experts during inspections. Individualized data on total family income is provided to employing Defense components for fiscal planning purposes, for subsidy computation, and to reimburse DLA for day care services rendered under a support agreement. Verification of family income data is also used for fee assessment purposes and is made available to DLA representatives during inspections.

Serious Event Forms, Incident Report Forms, and monthly injury logs are provided to the Child and Youth Programs Coordinator, the CDP Director, and the installation's safety and health office for the purpose of tracking all accidents/incidents that occur within the CDP center or during sponsored activities off-site. These reports are also made available to safety and health professionals during inspections.

Records pertaining to physical abilities and limitations; physical, emotional or other special care requirements to include restrictions or special precautions concerning diet; existing IDPs; and documentation of behavioral issues or other special needs will be provided to members of the SNRT for the purpose of determining staff training needs, appropriate classroom placement, necessity of contract modification, and appropriate follow-up, to include collaboration with community resources as needed. Based upon the severity of the special need, the installation's paramedic squad will be notified of the child's enrollment at the CDC and the specific condition that may require attention. Records will also be available to subject matter experts during inspections.

Routine uses of records maintained in the system, including categories of users and the purposes of such uses:

In addition to those disclosures generally permitted under 5 U.S.C. 552a(b) of the Privacy Act, these records or information contained therein may specifically be disclosed outside the DOD as a routine use pursuant to 5 U.S.C. 552a(b)(3) as follows:

To physicians, dentists, medical technicians, hospitals, or health care providers in the course of obtaining emergency medical attention.

To Federal, state, and local officials involved with childcare or health services for the purpose of reporting suspected or actual child abuse.

To Federal, state, and local agencies and private sector entities that employ individuals who are registered to use the day care center for the purpose of verifying income. Note: Only name and data pertaining to reported total family income is disclosed to employing agencies and entities.

To State Public Health Authorities and/or the Center for Disease Control for the purpose of reporting communicable diseases. Information released does not contain any personally identifiable information.

The DOD “Blanket Routine Uses” apply to this system of records.

Disclosures to consumer reporting agencies:

Disclosures pursuant to 5 U.S.C. 552a(b)(12) may be made from this system to “consumer reporting agencies” as defined in the Fair Credit Reporting Act (14 U.S.C. 1681a(f)) or the Federal Claims Collection Act of 1966 (31 U.S.C. 3701(a)(3)). The purpose of this disclosure is to aid in the collection of outstanding debts owed to the Federal government; typically to provide an incentive for debtors to repay delinquent Federal government debts by making these debts part of their credit records.

The disclosure is limited to information necessary to establish the identity of the individual, including name, address, and taxpayer identification number (Social Security Number); the amount, status, and history of the claim; and the agency or program under which the claim arose for the sole purpose of allowing the consumer reporting agency to prepare a commercial credit report.

Policies and practices for storing, retrieving, accessing, retaining and disposing of records in the system:

Storage:

Records are stored on paper and in electronic storage media.

Retrievability:

Records may be retrieved by the full name of the registrant/applicant/sponsor and Social Security Number. Volunteer records may be retrieved by their full name.

Safeguards:

Records are maintained in areas accessible only to personnel who must use them in the performance of their official duties. Paper records are maintained in locked file cabinets, drawers, or offices in a locked building with controlled, monitored access. Personnel who use the records to perform their duties must complete Privacy Act/Personally Identifiable Information (PII) training prior to being granted access to records. Smart card technology is required to access records maintained on computer systems.

Retention and disposal:

Enrollee records (involving no serious accident or injury requiring emergency medical records) are sent to the Child and Youth Program Coordinator upon termination from the program and are destroyed 1 year later.

Enrollee records (involving a serious accident or injury requiring emergency medical records) are sent to the Child Development Services Coordinator upon termination from the program and are destroyed 3 years after the incident or 1 year after the enrollee withdraws from the program, whichever is later.

Employee and Volunteer Records are maintained at the Child Development Center and are destroyed 3 years after termination of employment or volunteer services.

System manager(s) and address:

Director, Child and Youth Programs, Morale, Welfare and Recreation, Headquarters Defense Logistics Agency, 8725 John J. Kingman Road, ATTN: DES-Q, Fort Belvoir, VA 22060-6221.

Notification procedure:

Individuals seeking to determine whether information about them is contained in this system should address written inquiries to the Privacy Act Office, Headquarters, Defense Logistics Agency, ATTN: DGA, 8725 John J. Kingman Road, Suite 1644, Fort Belvoir, VA 22060-6221.

Inquiries from registrants/applicants/sponsors should contain their full name and Social Security Number. Inquiries from volunteers should contain their full name.

Record access procedures:

Individuals seeking access to information about them contained in this system should address written inquiries to the Privacy Act Office, Headquarters, Defense Logistics Agency, ATTN: DGA, 8725 John J. Kingman Road, Suite 1644, Fort Belvoir, VA 22060-6221.

Inquiries from registrants/applicants/sponsors should contain their full name and Social Security Number. Inquiries from volunteers should contain their full name.

Contesting record procedures:

The DLA rules for accessing records, for contesting contents, and appealing initial agency determinations are contained in 32 CFR part 323, or may be obtained from the Privacy Act Office, Headquarters, Defense Logistics Agency, ATTN: DGA, 8725 John J. Kingman Road, Suite 1644, Fort Belvoir, VA 22060-6221.

Record source categories:

Information is provided by the registrant, the registrant's sponsor, the sponsor's employer, the registrant's physician or health care provider, volunteers, and CDP employees.

Exemptions claimed for the system:

None.

[FR Doc. E8-20058 Filed 8-28-08; 8:45 am]

BILLING CODE 5001-06-P